DEPARTMENT OF STATE

[Delegation of Authority No. 236-3]

Delegation by the Under Secretary for Public Diplomacy and Public Affairs of Certain Functions to the Assistant Secretary for Educational and Cultural Affairs or in the Absence Thereof, to the Principal Deputy Assistant Secretary and Deputy Assistant Secretary for Policy and Resources; Title Correction

AGENCY: Department of State.

ACTION: Correction.

SUMMARY: This delegation was published on page 53795 of the Federal Register for Tuesday, September 5, 2000. A correction was made to the text of this delegation before it was published in the Federal Register but its title was not changed to reflect this correction. The corrected title of this delegation is Delegation by the Under Secretary for Public Diplomacy and Public Affairs of Certain Functions to the Assistant Secretary for Educational and Cultural Affairs.

Dated: September 22, 2000.
Timothy Egert,
Federal Register Liaison Officer, Department of State.

[FR Doc. 00-24931 Filed 9-27-00; 8:45 am]

BILLING CODE 4710-08-P